DEPARTMENT OF TRANSPORTATION

Federal Aviation Administration

14 CFR Part 97

[Docket No. 31213; Amdt. No. 3817]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 25, 2018. The compliance date for each SIAP, associated Takeoff Minimums, and ODP is specified in the amendatory provisions.

The incorporation by reference of certain publications listed in the regulations is approved by the Director of the Federal Register as of September 25, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on September 7, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 11 October 2018

Alton/St Louis, IL, St Louis Rgnl, ILS OR LOC RWY 29, Amdt 12B

Alton/St Louis, IL, St Louis Rgnl, RNAV (GPS) RWY 11, Amdt 2B

Alton/St Louis, IL, St Louis Rgnl, RNAV (GPS) RWY 17, Amdt 1B

Alton/St Louis, IL, St Louis Rgnl, RNAV (GPS) RWY 29, Amdt 1B

Peru, IN, Peru Muni, RNAV (GPS) RWY 19, Amdt 1A

Peru, IN, Peru Muni, VOR RWY 1, Amdt 8D

Marquette, MI, Sawyer Intl, Takeoff Minimums and Obstacle DP, Amdt 1

South Haven, MI, South Haven Area Rgnl, RNAV (GPS) RWY 5, Amdt 1E

South Haven, MI, South Haven Area Rgnl, RNAV (GPS) RWY 23, Amdt 1E

South Haven, MI, South Haven Area Rgnl, VOR RWY 23, Amdt 11B

Mankato, MN, Mankato Rgnl, VOR RWY 15, Amdt 7B

Chillicothe, MO, Chillicothe Muni, RNAV (GPS) RWY 14, Orig-A

Buffalo, NY, Buffalo Niagara Intl, ILS OR LOC RWY 5, Amdt 17A

Buffalo, NY, Buffalo Niagara Intl, ILS OR LOC RWY 23, Amdt 32A

Buffalo, NY, Buffalo Niagara Intl, ILS OR LOC RWY 32, Amdt 2A

Eugene, OR, Mahlon Sweet Field, RNAV (RNP) Z RWY 16L, Amdt 1A

Eugene, OR, Mahlon Sweet Field, RNAV (RNP) Z RWY 16R, Amdt 1B

Houston, TX, George Bush Intercontinental/Houston, ILS OR LOC RWY 8R, ILS RWY 8R SA CAT I, ILS RWY 8R SA CAT II, Amdt 26

Houston, TX, George Bush Intercontinental/Houston, RNAV (RNP) Y RWY 8R, Amdt 1B

Houston, TX, George Bush Intercontinental/Houston, RNAV (RNP) Y RWY 26L, Orig-C

Effective 8 November 2018

Fairbanks, AK, Fairbanks Intl, ILS OR LOC RWY 2L, ILS RWY 2L SA CAT I, ILS RWY 2L CAT II, ILS RWY 2L CAT III, Amdt 10B

Fairbanks, AK, Fairbanks Intl, ILS OR LOC RWY 20R, ILS RWY 20R SA CAT I, ILS RWY 20R SA CAT II, Amdt 25B

Fairbanks, AK, Fairbanks Intl, VOR OR TACAN RWY 20R, Orig-B

Palmer, AK, Warren “Bud” Woods Palmer Muni, PALMER FIVE, Graphic DP

Palmer, AK, Warren “Bud” Woods Palmer Muni, RNAV (GPS) RWY 10, Amdt 2

Palmer, AK, Warren “Bud” Woods Palmer Muni, RNAV (GPS)-A, Amdt 1

Palmer, AK, Warren “Bud” Woods Palmer Muni, Takeoff Minimums and Obstacle DP, Amdt 2B

St Mary's, AK, St Mary's, RNAV (GPS) RWY 35, Amdt 2D

Decatur, AL, Pryor Field Rgnl, RNAV (GPS) RWY 36, Amdt 2B

Bentonville, AR, Bentonville Muni/Louise M Thaden Field, RNAV (GPS) RWY 18, Amdt 2

Bentonville, AR, Bentonville Muni/Louise M Thaden Field, RNAV (GPS) RWY 36, Amdt 2

Bentonville, AR, Bentonville Muni/Louise M Thaden Field, VOR-A, Amdt 14

Nogales, AZ, Nogales Intl, NOGALES TWO, Graphic DP

Reedley, CA, Reedley Muni, RNAV (GPS) RWY 16, Orig

Reedley, CA, Reedley Muni, RNAV (GPS) RWY 34, Orig

Reedley, CA, Reedley Muni, Takeoff Minimums and Obstacle DP, Orig

San Luis Obispo, CA, San Luis County Rgnl, Takeoff Minimums and Obstacle DP, Amdt 7

Sebastian, FL, Sebastian Muni, RNAV (GPS) RWY 5, Orig-C, CANCELED

Sebastian, FL, Sebastian Muni, RNAV (GPS) RWY 23, Orig-C, CANCELED

Sebastian, FL, Sebastian Muni, RNAV (GPS)-A, Orig

Sebastian, FL, Sebastian Muni, RNAV (GPS)-B, Orig

Denison, IA, Denison Muni, NDB RWY 30, Amdt 6A, CANCELED

Estherville, IA, Estherville Muni, RNAV (GPS) RWY 16, Amdt 1A

Estherville, IA, Estherville Muni, RNAV (GPS) RWY 34, Amdt 1A

Paynesville, MN, Paynesville Muni, Takeoff Minimums and Obstacle DP, Amdt 1

St Cloud, MN, St Cloud Rgnl, VOR RWY 31, Orig-B

Booneville/Baldwyn, MS, Booneville/Baldwyn, VOR-A, Amdt 1A

Livingston, MT, Mission Field, LIVINGSTON TWO, Graphic DP

Kinston, NC, Kinston Rgnl Jetport at Stallings Fld, VOR RWY 23, Amdt 16, CANCELED

Lincolnton, NC, Lincolnton-Lincoln County Rgnl, NDB RWY 23, Amdt 3B, CANCELED

West Creek, NJ, Eagles Nest, Takeoff Minimums and Obstacle DP, Amdt 1

Tucumcari, NM, Tucumcari Muni, Takeoff Minimums and Obstacle DP, Amdt 2B

Las Vegas, NV, North Las Vegas, Takeoff Minimums and Obstacle DP, Amdt 3A

Springfield, OH, Springfield-Beckley Muni, ILS OR LOC RWY 24, Amdt 2, CANCELED

Springfield, OH, Springfield-Beckley Muni, VOR RWY 6, Amdt 11, CANCELED

Springfield, OH, Springfield-Beckley Muni. VOR/DME RWY 33, Orig, CANCELED

Versailles, OH, Darke County, RNAV (GPS) RWY 9, Amdt 1

Versailles, OH, Darke County, RNAV (GPS) RWY 27, Amdt 1

Versailles, OH, Darke County, Takeoff Minimums and Obstacle DP, Amdt 3

Wadsworth, OH, Wadsworth Muni, Takeoff Minimums and Obstacle DP, Amdt 2

Creswell, OR, Hobby Field, HOBBY ONE, Graphic DP

Creswell, OR, Hobby Field, RNAV (GPS) RWY 16, Orig

Creswell, OR, Hobby Field, Takeoff Minimums and Obstacle DP, Orig

Tyler, TX, Tyler Pounds Rgnl, ILS OR LOC RWY 13, Amdt 22

Tyler, TX, Tyler Pounds Rgnl, RNAV (GPS) RWY 13, Amdt 3

Tyler, TX, Tyler Pounds Rgnl, RNAV (GPS) RWY 17, Amdt 1

Tyler, TX, Tyler Pounds Rgnl, RNAV (GPS) RWY 22, Amdt 3

Tyler, TX, Tyler Pounds Rgnl, RNAV (GPS) RWY 31, Amdt 3

Tyler, TX, Tyler Pounds Rgnl, RNAV (GPS) RWY 35, Amdt 1

Tyler, TX, Tyler Pounds Rgnl, VOR RWY 4, Amdt 5

Tyler, TX, Tyler Pounds Rgnl, VOR RWY 31, Amdt 3

Suffolk, VA, Suffolk Executive, LOC RWY 4, Amdt 6

Suffolk, VA, Suffolk Executive, RNAV (GPS) RWY 4, Amdt 4A

Vancouver, WA, Pearson Field, Takeoff Minimums and Obstacle DP, Amdt 4

Ashland, WI, John F Kennedy Memorial, LOC RWY 2, Amdt 1B

Ashland, WI, John F Kennedy Memorial, RNAV (GPS) RWY 20, Amdt 1B

[FR Doc. 2018-20396 Filed 9-24-18; 8:45 am]

BILLING CODE 4910-13-P